DEPARTMENT OF COMMERCE

National Oceanic and Atmospheric Administration

RIN 0648-XC017

Fishing Capacity Reduction Program for the Southeast Alaska Purse Seine Salmon Fishery

AGENCY: National Marine Fisheries Service (NMFS), National Oceanic and Atmospheric Administration (NOAA), Commerce.

ACTION: Notice of reduction payment tender of Southeast Alaska purse seine salmon permits.

SUMMARY: The National Marine Fisheries Service published regulations implementing a fishing capacity reduction program in the Southeast Alaska purse seine salmon fishery. The program authorizes NMFS to make payments to permit holders who voluntarily relinquish their fishing permits. The Southeast Revitalization Association (SRA) conducted a bid selection process accepting sixty-four bids to remove Southeast Alaska purse seine salmon permits. It then submitted a reduction plan to NMFS to implement the program. NMFS conducted a referendum which approved the reduction loan repayment fees of $13,133,030 which post-reduction harvesters will repay over a 40-year period removing 64 permits. Accordingly, NMFS is preparing to tender reduction payments to the accepted bidders.

DATES: The public has until June 6, 2012 to inform NMFS of any holding, owning, or retaining claims that conflict with the representations of bids as presented by the SRA.

ADDRESSES: Send comments about this notice to Paul Marx, Chief, Financial Services Division, NMFS, Attn: SE Alaska Purse Seine Salmon Buyback, 1315 East-West Highway, Silver Spring, MD 20910 (see FOR FURTHER INFORMATION CONTACT).

FOR FURTHER INFORMATION CONTACT: Michael A. Sturtevant at (301) 427-8799, fax (301) 713-1306, or michael.a.sturtevant@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC).

NMFS published proposed program regulations on May 23, 2011 (76 FR 29707), and final program regulations on October 6, 2011 (76 FR 61986), to implement the reduction program. Subsequently, the Southeast Revitalization Association submitted a capacity reduction plan to NMFS. NMFS approved the plan on February 24, 2012. NMFS published the list of eligible voters on March 1, 2012 (77 FR 12568) and the notice of referendum period on March 29, 2012 (77 FR 19004). Interested persons should review these for further program details.

II. Present Status

NMFS conducted a referendum to determine the industry's willingness to repay a fishing capacity reduction loan to purchase the permits identified in the reduction plan. NMFS mailed ballots to 379 permanent permit holders in the fishery designated as S01A by CFEC who were eligible to vote in the referendum. The voting period opened on March 30, 2012, and closed on April 30, 2012. NMFS received 269 timely and valid votes. 215 of the votes approved the fees. This exceeded the majority of permit holders (190) required for industry fee system approval. Therefore, the referendum is deemed successful and permit holders are deemed to have approved the industry fee system. Accordingly, the reduction contracts are in full force and effect and NMFS is now preparing to tender and disburse reduction payments to selected bidders.

III. Purpose

NMFS publishes this notice to inform the public before tendering reduction payments to the 64 accepted bidders. Upon receiving notice from CFEC that the permit has been relinquished and is no longer valid, NMFS will tender reduction payments on or about June 6, 2012. When NMFS tenders a reduction payment to a selected bidder, the selected bidder must permanently stop all further fishing represented by each reduction permit the bidder has relinquished. The selected bidder, in accordance with section 5 of the relinquishment contract, must notify all creditors or other parties with security interests in the reduction permit, that they have entered into the relinquishment contract.

This notice provides the public (including creditors or other parties) 30 days from publication of this notice to advise NMFS in writing of any holding, owning, or retaining claims that conflict with the representations of bids as presented by the SRA.

IV. Selected Bidders and Permits

The table below lists the 64 permit holders who will receive reduction payments when NMFS receives confirmation from CFEC that the specified permits have been relinquished.

Last name | First name | Permit No.
Alfieri | Joe | S01A60791I
Alfieri | Anthony | S01A55646M
Barrett | Davis | S01A58501W
Beritich | Mitchell | S01A58923M
Bill | David | S01A58338U
Blair | Andrew | S01A59085F
Botsford | Wallace | S01A63175B
Buschmann | Ronn | S01A55479D
Christensen | Dale | S01A60803V
DeGroen | Johnny | S01A58505S
Demmert | Nicholas | S01A56948W
Dontos | Larry | S01A59705K
Fanning | Christine | S01A60909J
Finney | Paul | S01A64933S
Gruenheit | Michael | S01A55083V
Haldane | Robert | S01A56620L
Haltiner | Fred | S01A55617L
Hansen | William | S01A55442A
Hanson | Jeff | S01A57976
Haynes | Bradley | S01A574950
Jensen | Douglas | S01A59714N
Johns | Justna | S01A55403
Jolibois | Timothy | S01A56018A
Jurlin | Marie | S01A58547R
Kohlase | Ernest | S01A56199V
Krieger | Kenneth | S01A59613M
Krigbaum | Michael | S01A58031W
Kvernvik | Carolyn | S01A55231R
MacDonald | Clifford | S01A55545L
Mann | Bruce | S01A56187
Manos | Andrew | S01A59222I
Manos | Thomas | S01A60642C
Maricich | Timothy | S01A59569W
Markusen | Kenneth | S01A55584K
Marrese | Andrew | S01A57909W
Marvin-Denkinger | Victoria | S01A58429X
McGee | Gary | S01A56559
McLean | John | S01A56270P
Menten | Erik | S01A57726X
Michael | Mercury | S01A55386C
Nash | Paul | S01A57907M
Nugent | Matthew | S01A55689G
Olney | Virginia | S01A57720
Peterman | Chad | S01A55986F
Pfundt | Michele | S01A56392F
Reifenstuhl | Ivan | S01A55171A
Reimnitz | Hartmut | S01A578995
Rocheleau | Rick | S01A58478
Schonberg | Peter | S01A56601I
Schonberg | Mart | S01A56882A
Scudder | Bradley | S01A56000N
Selivanoff | Douglas | S01A57856A
Sorensen | Paige | S01A58511U
Spearin | James | S01A59372G
Suydam | Antril | S01A57910N
Svensson | John | S01A56492N
Tarabochia | Dominick | S01A56600P
Thorstenson | Peder | S01A59806J
Veerhusen | Daniel | S01A56638X
Wallace | Bruce | S01A55827B
Wamser | William | S01A60071B
Wills | Charles | S01A58070V
Zuanich | Michelle | S01A57849F
Zuanich | Michelle | S01A568811

Dated: May 2, 2012.
Lindsay Fullenkamp,
Acting Director, Office of Management and Budget, National Marine Fisheries Service.

[FR Doc. 2012-10984 Filed 5-4-12; 8:45 am]

BILLING CODE 3510-22-P